DEPARTMENT OF ENERGY

Federal Energy Regulatory Commission

[Docket No. RP00-506-008]

Northwest Pipeline Corporation; Notice of Compliance Filing

August 8, 2003.

Take notice that on August 1, 2003, Northwest Pipeline Corporation (Northwest) tendered for filing as part of its FERC Gas Tariff, Third Revised Volume No. 1, the following tariff sheets, to be effective as indicated.

Third Substitute Eighth Revised Sheet No. 24 (effective February 25, 2001).

Third Substitute Fifth Revised Sheet No. 259 (effective February 25, 2001).

Third Substitute First Revised Sheet No. 278-C (effective February 25, 2001).

First Revised Sheet No. 278-D (effective October 26, 2001).

Northwest states that this filing complies with the Commission's order dated July 29, 2003 in Docket Nos. RP00-506-004, 005, 006 and 007. Northwest states that the proposed tariff sheets remove previously proposed restrictions on reductions of maximum daily quantities and maximum daily delivery obligations at individual receipt and delivery points in the event of a partial capacity turnback. Northwest states that a copy of this filing has been served upon each person designated on the official service list complied by the Secretary in this proceeding.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: August 13, 2003.

Magalie R. Salas,
Secretary.

[FR Doc. 03-20977 Filed 8-15-03; 8:45 am]

BILLING CODE 6717-01-P